DEPARTMENT OF ENERGY

Federal Energy Regulatory Commission

[Docket No. CP00-378-000]

Eastern Shore Natural Gas Company; Notice of Request Under Blanket Authorization

June 14, 2000.

Take notice that on June 6, 2000, as supplemented on June 13, 2000, Eastern Shore Natural Gas Company (Eastern Shore), P.O. Box 1769, Dover, Delaware 19903-1769, filed in Docket No. CP00-378-000 a request pursuant to Sections 157.205 and 157.211 of the Commission's Regulations (18 CFR 157.205 and 157.211) under the Natural Gas Act (NGA) for authorization to construct and operate a tap and meter station in Kent County, Delaware to provide interruptible service to First State Power Management, Inc. (First State), an end user, under Eastern Shore's blanket certificate issued in Docket No. CP83-40-000, pursuant to Section 7 of the NGA, all as more fully set forth in the application which is on file with the Commission and open to public inspection. This filing may be viewed on the web at http://www.ferc.fed.us/online/htm (call 202-208-2222 for assistance).

Eastern Shore indicates that, in addition to the tap and meter station, it will construct a delivery lateral 2,425 feet of 8-inch pipeline to deliver the gas to First State, which it will construct under Section157.208(a) of the Commission's Regulations as an eligible facility. Eastern Shore states that it will use these facilities to deliver up to 800,000 dt per year on an interruptible basis pursuant to the terms of Eastern Shore's IT rate schedule.

Eastern Shore estimates the cost of the tap and meter station at $95,000, and the cost of the pipeline lateral at $195,000, all of which it will be reimbursed by First State. It is asserted that Eastern Shore's tariff does not prohibit the addition of delivery point facilities.

Any person or the Commission's staff may, within 45 days after issuance of the instant notice by the Commission file pursuant to Rule 214 of the Commission's Procedural Rules (18 CFR 385.214) a motion to intervene or notice of intervention and pursuant to Section 157.205 of the Regulations under the NGA (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-15483 Filed 6-19-00; 8:45 am]

BILLING CODE 6717-01-M